DEPARTMENT OF COMMERCE

National Oceanic and Atmospheric Administration

RIN 0648-XM37

Fisheries of the Exclusive Economic Zone Off Alaska; Groundfish Fisheries in the Bering Sea and Aleutian Islands

AGENCY: National Marine Fisheries Service (NMFS), National Oceanic and Atmospheric Administration (NOAA), Commerce.

ACTION: Notice; intent to prepare an environmental assessment or an environmental impact statement; request for written comments.

SUMMARY: NMFS, in consultation with the North Pacific Fishery Management Council, announces its intent to prepare either an Environmental Assessment (EA) or an Environmental Impact Statement (EIS) on measures to minimize non-Chinook salmon bycatch in the Bering Sea, in accordance with the National Environmental Policy Act of 1969. The proposed action would replace the current Chum Salmon Savings Area in the Bering Sea, and the specific exemption to the area closure, with new regulatory closures, salmon bycatch limits, or a combination of both. The scope of the EA or EIS will be to determine the impacts to the human environment resulting from the measures to minimize non-Chinook salmon bycatch. NMFS will accept written comments from the public to determine the issues of concern and the appropriate range of alternatives for analysis.

DATES: Written comments must be received by March 23, 2009.

ADDRESSES: Written comments on issues and alternatives should be sent to Sue Salveson, Assistant Regional Administrator, Sustainable Fisheries Division, Alaska Region, NMFS, Attn: Ellen Sebastian. Comments may be submitted by:

• E-mail: ChumSalmonBycatchEIS@noaa.gov. Include in the subject line the following document identifier: “RIN 0648-XM37”. E-mail comments, with or without attachments, are limited to 5 megabytes;

• Mail: P.O. Box 21668, Juneau, AK 99802;

• Hand Delivery to the Federal Building: 709 West 9th Street, Room 420A, Juneau, AK; or

• Fax: 907-586-7557.

All Personal Identifying Information (e.g., name, address) voluntarily submitted by the commenter may be publicly accessible. Do not submit Confidential Business Information or otherwise sensitive or protected information.

NMFS will accept anonymous comments. Attachments to electronic comments will be accepted in Microsoft Word, Excel, WordPerfect, or Adobe portable document file (pdf) formats only.

FOR FURTHER INFORMATION CONTACT: Gretchen Harrington, (907) 586-7228.

SUPPLEMENTARY INFORMATION: Under the Magnuson-Stevens Fishery Conservation and Management Act (Magnuson-Stevens Act), the United States has exclusive fishery management authority over all living marine resources found within the exclusive economic zone. The management of these marine resources, with the exception of certain marine mammals and birds, is vested in the Secretary of Commerce. The North Pacific Fishery Management Council (Council) has the responsibility to prepare fishery management plans for those marine resources off Alaska requiring conservation and management. Management of the Federal groundfish fishery in the Bering Sea is carried out under the Fishery Management Plan for Groundfish of the Bering Sea and Aleutian Islands Management Area (FMP). The FMP, its amendments, and implementing regulations (found at 50 CFR part 679) are developed in accordance with the requirements of the Magnuson-Stevens Act and other applicable Federal laws and executive orders, notably the National Environmental Policy Act (NEPA) and the Endangered Species Act (ESA).

The Council is considering new measures to minimize non-Chinook salmon bycatch in the Bering Sea pollock fishery because of the potential negative impacts on salmon stocks in general, and on western Alaska salmon stocks in particular. Four species of salmon (sockeye, coho, pink, and chum) are aggregated into a “non-Chinook salmon” species category for catch accounting and prohibited species catch limits. Chum salmon comprises over 99.6% of the total catch in this category. The majority of non-Chinook bycatch occurs in the pollock trawl fishery during the B season (June 10 to November 1). Historically, the portion of the non-Chinook bycatch from the pollock trawl fishery has ranged from 88% to over 99.5% of all non-Chinook salmon bycatch in the federal groundfish fisheries. Since 2002, bycatch of non-Chinook salmon in the pollock fishery has comprised over 95% of the total non-Chinook salmon bycatch.

From 1991 through 2002, the average annual bycatch in the Bering Sea pollock fishery was 72,668 non-Chinook salmon. From 2003 through 2006, non-Chinook salmon bycatch numbers increased substantially to a historic high of 704,989 non-Chinook salmon in 2005. Bycatch since 2006 has declined substantially, with a 2008 bycatch of 15,002 non-Chinook salmon. The numbers of non-Chinook salmon bycatch in the Bering Sea pollock fishery from 2003 through 2008 are shown in the following table:

Year | Number of non-Chinook salmon
2003 | 195,135
2004 | 440,692
2005 | 704,989
2006 | 309,676
2007 | 94,349
2008 | 15,002

NMFS and the Council are initiating scoping in the event that an Environmental Impact Statement (EIS) is the required NEPA document for the proposed action and its alternatives. We are seeking information from the public through the scoping process on the range of alternatives to be analyzed, and on the environmental, social, and economic issues to be considered in the analysis. Written comments generated during this scoping process will be provided to the Council and incorporated into the EIS, or the EA if we determine that an EIS is not required.

Chum Salmon Savings Area and Prohibited Species Catch Limit

The Chum Salmon Savings Area in the Bering Sea is a time-area closure designed to reduce overall non-Chinook salmon bycatch in the federal groundfish trawl fisheries. This time-area closure was adopted based on historically observed salmon bycatch rates and was designed to avoid areas and times of high non-Chinook salmon bycatch. The Chum Salmon Savings Area is closed to pollock fishing from August 1 through August 31 of each year. Additionally, if the prohibited species catch limit of 42,000 non-Chinook salmon are caught by vessels using trawl gear in the Catcher Vessel Operational Area during the period August 15 through October 14, the Chum Salmon Savings Area remains closed to directed fishing for pollock for the remainder of the calendar year.

Non-CDQ and CDQ pollock vessels participating in an inter-cooperative agreement (ICA) using the Voluntary Rolling Hotspot System (VHRS) are exempted from closures of the Chum Salmon Savings Area. The purpose of the VHRS ICA is to use real-time salmon bycatch information to avoid areas of high non-Chinook salmon bycatch rates. The ICA utilizes a system of base bycatch rates, assignment of vessels to tiers based on bycatch rates relative to the base rate, a system of closures for vessels in certain tiers, and monitoring and enforcement through private contractual arrangements. The VRHS ICA was necessary because comparisons of non-community development quota (non-CDQ) vessels fishing outside of the salmon savings areas with CDQ vessels fishing inside of the salmon savings areas indicated that salmon bycatch rates were much higher outside of the savings areas, and closures were displacing vessels to higher bycatch areas.

Proposed Action

The proposed action is to replace the current Chum Salmon Savings Areas and the VRHS ICA regulations with new regulatory closures, salmon bycatch limits, or a combination of both based on current salmon bycatch information. The purpose of the proposed action is to minimize non-Chinook salmon bycatch to the extent practicable while achieving optimum yield from the pollock fishery. The proposed action is necessary to ensure long-term conservation and abundance of salmon, maintain a healthy marine ecosystem, provide maximum benefit to fishermen and communities that depend on salmon and pollock, and comply with the Magnuson-Stevens Act.

Alternative Management Measures

We will evaluate a range of alternative management measures for the Bering Sea pollock fishery. Alternatives may be formulated based on the elements identified here, and those developed through the public scoping and Council processes. Possible alternatives could be constructed from one or more of the following measures:

1. Hard Cap - Establish a hard cap for non-Chinook salmon bycatch in the CDQ and non-CDQ pollock fisheries. The eight hard cap options range from 58,176 to 488,045 non-Chinook salmon. Hard caps could be apportioned to the CDQ and non-CDQ pollock fisheries or divided among the fishery sectors. Sector level caps could be further divided among the cooperatives. Fishery participants would be required to stop fishing when the hard cap is reached.

2. Triggered area closure - Establish a salmon savings area closure based on current salmon bycatch information. These closures would occur once a specified cap level was reached.

Additional information about non-Chinook salmon bycatch and the alternatives that the Council may consider may be found on the Council's website at: http://www.alaskafisheries.noaa.gov/npfmc/current_issues/bycatch/chumbycatch1208.pdf.

Preliminary Identification of Issues

A principal objective of the scoping and public input process is to identify potentially significant impacts to the human environment. The analysis will evaluate the impacts of the alternatives for all resources, species, and issues that may be directly or indirectly affected by non-Chinook salmon bycatch in the Bering Sea pollock fisheries. The following components of the biological and physical environment may be evaluated: (1) target and non-target fish stocks, forage fish, and prohibited species, including salmon species; (2) species listed under the ESA and their critical habitat; (3) seabirds; (4) marine mammals; and (5) the ecosystem.

Social and economic impacts also would be considered in terms of the effects that changes to non-Chinook salmon bycatch management measures would have on the following groups of individuals: (1) those who participate in harvesting pollock; (2) those who process and market pollock and pollock products; (3) those who consume pollock products; (4) those who rely on living marine resources caught in the management area, particularly non-Chinook salmon; (5) those who benefit from subsistence, commercial, and sport salmon fisheries; and (6) fishing communities.

Public Involvement

Scoping is an early and open process for determining the scope of issues to be addressed in an EA for EIS and for identifying the significant issues related to the proposed action. A principal objective of the scoping and public involvement process is to identify a range of reasonable of management alternatives that will delineate critical issues and provide a clear basis for distinguishing among those alternatives and selecting a preferred alternative. Through this notice, we are notifying the public that a NEPA analysis and decision-making process for this proposed action has been initiated so that interested or affected people may participate and contribute to the final decision.

We are seeking written public comments on the scope of issues, including potential impacts, and alternatives that should be considered in revising non-Chinook salmon bycatch management measures. Written comments will be accepted at the address above (see ADDRESSES). Written comments should be as specific as possible to be the most helpful. Written comments received during the scoping process, including the names and addresses of those submitting them, will be considered part of the public record of this proposal and will be available for public inspection.

The public is invited to participate and provide input at Council meetings where the latest scientific information regarding salmon bycatch in the Bering Sea pollock fishery is reviewed and alternative non-Chinook salmon bycatch reduction measures are developed and evaluated. Notice of future Council meetings will be published in the Federal Register and posted on the Internet at http://alaskafisheries.noaa.gov/. Please visit this website for more information on this proposed action and for guidance on submitting effective public comments.

Dated: January 2, 2009.
Emily H. Menashes
Acting Director, Office of Sustainable Fisheries, National Marine Fisheries Service.

[FR Doc. E9-125 Filed 1-7-09; 8:45 am]

BILLING CODE 3510-22-S